DEPARTMENT OF COMMERCE

National Oceanic and Atmospheric Administration

[I.D. 120902E]

Proposed Information Collection; Comment Request; Hurricane Forecast Economic Valuation Study

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 11, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed Dr. Rodney Weiher, U.S. Dept. of Commerce/NOAA/PSP, Room 6117, 14th and Constitution Ave NW, Washington DC, 20234. (or via Internet at Rodney.F.Weiher@noaa.gov).

SUPPLEMENTARY INFORMATION:

I. Abstract

The purpose of this data collection is to provide information on the value of current and improved hurricane forecasts to specific segments of the U.S. population. The study will measure total economic values for current hurricane forecasts and improved hurricane forecasts. This effort is designed to provide information on the uses and values of hurricane forecasts in order to improve product design and delivery systems as well as information for managers on the value of undertaking programs to improve hurricane forecasting capabilities.

This effort will involve development of extensive knowledge about how hurricane forecasts are perceived, understanding the implications of alternative forecast improvement actions, designing original survey instruments, interviewing of a large number of respondents (1200-1500), and conducting formal statistical analysis of the data. A regionally-oriented survey will be conducted using stated-preferences methods. Cognitive interviews will be used in survey development to examine individuals' understanding of hurricane forecasts and the words and meanings they may use to discuss hurricanes. The interviews will be used to examine the relative importance of hurricane forecast attributes, to assess the presentation of information on hurricane forecasts, and developing approaches for eliciting economic values for improvements in hurricane forecasting.

II. Method of Collection

Up to 96 one-on-one cognitive interviews will be conducted. In addition, one pretest of the full survey instrument will be tested for a response of up to 100 usable observations. The final survey instrument will be administered to a sample of up to 1500 people.

III. Data

OMB Number: None.

Form Number: None.

Type of Review: Regular submission.

Affected Public: Individuals or households.

Estimated Number of Respondents: 1,696.

Estimated Time Per Response: 2 hours for an interview; 45 minutes for a pretest; and 45 minutes for a final survey.

Estimated Total Annual Burden Hours: 1,392.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 6, 2002.
Gwellnar Banks,
Management Analyst, Office of the Chief Information Officer.

[FR Doc. 02-31450 Filed 12-12-02; 8:45 am]

BILLING CODE 3510-12-S